DEPARTMENT OF THE INTERIOR

Fish and Wildlife Service

[Docket No. FWS-R8-NWRS-2022-N003; FXRS12610800000-223-FF08RSDC00]

Draft Environmental Impact Statement/Environmental Impact Report for the Tijuana Estuary Tidal Restoration Program II Phase I

AGENCY: Fish and Wildlife Service, Interior.

ACTION: Notice of availability, request for comments.

SUMMARY: We, the U.S. Fish and Wildlife Service (Service), announce the availability of a joint draft environmental impact statement/environmental impact report (DEIS/EIR) for the Tijuana Estuary Tidal Restoration Program II Phase I (TETRP II Phase I). The Service, in partnership with the California Department of Parks and Recreation, is proposing coastal wetland restoration within the Tijuana River National Estuarine Research Reserve on portions of both the Tijuana Slough National Wildlife Refuge and Border Field State Park, in San Diego County, California. The U.S. Army Corps of Engineers is participating in the National Environmental Policy Act process as a cooperating agency. This notice advises the public that the DEIS/EIR, which describes the coastal wetland restoration alternatives identified for TETRP II Phase I, is available for public review and comment.

DATES:

Submitting Comments: We will accept comments received or postmarked on or before October 3, 2022.

Virtual Public Meetings: The Service will hold two virtual public meetings during the public comment period to describe the alternatives and answer questions regarding the proposal and the review process. Details regarding the meeting dates and times, as well as a link to participate in the public meetings, are provided at https://trnerr.org/about/public-notices (scroll down to “TETRP II Phase I ”).

ADDRESSES:

Document Availability: You may view or download the DEIS/EIR at:

• Internet: https://trnerr.org/about/public-notices/.

• In Person: Subject to restrictions imposed in response to COVID-19, you may view the available documents at the following locations (call for office hours before traveling to one of these locations).

○ Tijuana Estuary Visitor Center, 301 Caspian Way, Imperial Beach, CA 91932 (closed Mondays and Tuesdays); telephone 619-575-3613.

○ California Department of Parks and Recreation, San Diego Coast District Office, 4477 Pacific Highway, San Diego, CA 92110; telephone 619-688-3260.

○ California Department of Parks and Recreation, Southern Service Center, NTC at Liberty Station, Barracks 26, 2797 Truxtun Road, San Diego, CA 92106; telephone 619-221-7060.

○ Imperial Beach Branch Library, 810 Imperial Beach Blvd., Imperial Beach, CA 91932; telephone 619-424-6981.

○ San Ysidro Branch Library, 4235 Beyer Blvd., San Diego, CA 92173; telephone 619-424-0475.

Submitting Comments: You may submit written comments by one of the following methods:

• U.S. Mail: Brian Collins, USFWS, San Diego NWR Complex, 1080 Gunpowder Point Drive, Chula Vista, CA 91910.

• Email: fw8plancomments@fws.gov; please include “TETRP DEIS/EIR” in the email subject line.

• In-Person Drop-off: You may drop off comments at the Tijuana Estuary Visitor Center (see Document Availability, above), Wednesday through Sunday between 10 a.m. and 5 p.m.

We request that you submit comments by only the methods described above. For additional information about submitting comments, see Public Availability of Comments under SUPPLEMENTARY INFORMATION.

Virtual Public Meetings: The dates and times for the virtual meetings, along with a link and access instructions, are posted at https://trnerr.org/about/public-notices/.

Reviewing U.S. Environmental Protection Agency (EPA) comments on the DEIS/EIR: See EPA's Role in the EIS Process under SUPPLEMENTARY INFORMATION.

FOR FURTHER INFORMATION CONTACT: Brian Collins, Refuge Manager, at brian_collins@fws.gov or 760-431-9440, extension 273. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce the availability of a joint draft environmental impact statement/environmental impact report (DEIS/EIR) for the Tijuana Estuary Tidal Restoration Program II Phase I (TETRP II Phase I). The Service, in partnership with the California Department of Parks and Recreation (CDPR), is proposing coastal wetland restoration within the Tijuana River National Estuarine Research Reserve on portions of both the Tijuana Slough National Wildlife Refuge (TSNWR) and Border Field State Park, in San Diego County, California. The U.S. Army Corps of Engineers is participating in the National Environmental Policy Act (NEPA) process as a cooperating agency. This notice advises the public that the DEIS/EIR, which describes the coastal wetland restoration alternatives identified for TETRP II Phase I, is available for public review and comment.

The Service and CDPR have jointly prepared the DEIS/EIR to evaluate the impacts of implementing TETRP II Phase I on the human environment, consistent with the purpose and goals of NEPA (42 U.S.C. 4321 et seq.) and pursuant to the Council on Environmental Quality's implementing NEPA regulations at 40 CFR parts 1500-1508. The DEIS/EIR will also be used by CDPR to satisfy the requirements of the California Environmental Quality Act (CEQA), as provided in Public Resources Code 21000 et seq and the CEQA Guidelines (Title 14, Division 6, Chapter 3 of the California Code of Regulations). A notice of intent to prepare a DEIS/EIR for TETRP II Phase I was published in the Federal Register on May 27, 2021 (86 FR 28638). We have considered the comments we received during the scoping process, and have addressed them as applicable in the DEIS/EIR.

Project Location

The project site, which encompasses approximately 90 acres (ac), is located within the southern arm of the Tijuana Estuary, just to the east of the Pacific Ocean, in southwestern San Diego County, California. The site includes portions of both the TSNWR and Border Field State Park. The project site is located entirely within the Tijuana River National Estuarine Research Reserve.

Background

Tijuana Estuary is located at the southwest corner of the United States in San Diego County, California, where the Tijuana River drains an approximately 1,700-square-mile watershed, a large portion of which is located within Mexico. Despite recent changes to the upstream watershed, including an increase in the flow of contaminated freshwater inputs and sedimentation, the Tijuana Estuary remains the largest, most intact coastal wetland in the region, supporting habitat for resident and migratory wildlife and native plants, including many sensitive, threatened, and endangered species.

It is estimated that in the 1800s, Tijuana Estuary included over 2,500 ac of estuarine wetlands. Since then, the estuary has experienced an approximately 50 percent decrease in subtidal and mudflat habitat and a 42 percent decrease in salt marsh. In addition, extensive loss of tidal prism (i.e., the volume of water coming and going with the tides) has occurred. This degradation in the southern arm of Tijuana Estuary served as the primary motivation for the initiation of Tijuana Estuary Tidal Restoration Program (TETRP), an extensive restoration proposal developed in the early 1990s.

The TETRP proposal included a multi-phased 495-ac restoration project in the estuary's southern arm, along with a proposed Model Marsh and Oneonta Tidal Linkage project (both of which have been implemented). The final EIR/EIS for the original TETRP proposal was completed in 1991. Based on updated research and analysis, the TETRP restoration proposals were refined in 2008 as part of the Tijuana Estuary Friendship Marsh Restoration Feasibility and Design Study. TETRP II Phase I is the first phase of this 2008 multi-phased restoration project.

National Environmental Policy Act

In compliance with NEPA (42 U.S.C. 4321 et seq.), the Service has prepared this DEIS/EIR that describes the project setting and restoration planning history for the Tijuana Estuary and analyzes the environmental consequences of each alternative, including the effects of those alternatives when combined with reasonably foreseeable future actions and environmental trends, to determine if significant impacts to the human environment would occur. Three alternatives are analyzed in detail in the DEIS/EIR: two action alternatives and a no action/no project alternative. All alternatives are analyzed in the DEIS/EIR at an equal level of detail. The primary differences between the two action alternatives are the total acres of restored intertidal mudflat habitat versus restored intertidal salt marsh habitat, the total volume of excavated material generated, and the number of tidal channels constructed to facilitate tidal flows into the restored wetlands from the South Beach Slough.

Common features include restoration of predominantly disturbed portions of the southern arm of Tijuana Estuary to tidal wetlands, tidal channel enhancements, and new intertidal channel connections to restored habitat areas and the existing Model Marsh, incorporation of wetland-to-upland transitional habitat areas into the restoration design, and river mouth excavation, as needed, to ensure continued tidal exchange within the estuary. Additionally, both action alternatives propose the beneficial reuse of suitable excavated material for beach nourishment, development and maintenance of adjacent coastal barrier dunes, and reclamation of the Nelson Sloan Quarry. Excavated material not suitable for these purposes would be transported off site to the Otay Landfill or another suitable disposal site.

Alternative 1—Alternative 1, which includes 86.8 ac, was designed to maximize deeper intertidal habitats, such as mudflat, and to increase tidal prism in the southern arm of the estuary. A network of intertidal channels would connect with existing tidal channels and the mouth of the Tijuana River. The primary tidal connection would be the existing South Beach Slough, which would be made deeper. A smaller tidal connection would be provided to the existing Old River Slough, where the adjacent vegetated marsh habitat would be preserved. Excavation to restore wetland habitats would generate approximately 585,000 cubic yards (cy) of sediment, with approximately 5,000 cy to be used to establish higher elevation transitional areas within the restoration footprint.

Alternative 2 (Proposed Action)—Alternative 2, identified in the DEIS/EIR as the proposed action, includes a restoration footprint of approximately 83.6 ac and proposes to restore approximately 82.5 ac of wetland habitats from primarily disturbed upland habitat, while preserving 1.1 ac of transitional and upland habitat within the northern portion of the project site. The restored habitats would generally be located in and around the Model Marsh. A system of tidal channels would be established, with connections to existing tidal channels at three points, including two along South Beach Slough and one at Old River Slough. South Beach Slough would be deepened to increase tidal flows into the proposed restoration area, and transition zone habitat would be restored along the southern portion of the restoration area and intermittently around the perimeter of Model Marsh. Excavation would generate approximately 521,000 cy of material, with approximately 7,000 cy to be used on site to establish higher elevation transitional areas. As described above, the remainder of the excavated material, depending upon its suitability, would be beneficially reused for beach nourishment, transported off site for beneficial reuse at other project sites, and/or disposed of in a landfill.

No Action Alternative—Under the No Action Alternative, restoration of the estuary would not be implemented. No removal of soil or vegetation would occur to restore or establish habitat within the project site. New or widened channel connections would not be implemented. Periodic removal of sand from the estuary's river mouth could continue to occur under separate approvals, but activities would be restricted to the river mouth and would not extend into the estuary.

EPA's Role in the EIS Process

The U.S. Environmental Protection Agency (EPA) is charged with reviewing all Federal agencies' EISs and commenting on the adequacy and acceptability of the environmental impacts of proposed actions. Therefore, in addition to our publication of this notice, the EPA is publishing a notice in the Federal Register announcing the DEIS, as required under section 309 of the Clean Air Act (CAA; 42 U.S.C. 7401 et seq.). The publication date of EPA's notice of availability is the start of the public comment period for the DEIS/EIR. Under the CAA, EPA also must subsequently announce the final EIS via the Federal Register. EPA also serves as the repository (EIS database) for EISs prepared by Federal agencies. The EIS database provides information about EISs prepared by Federal agencies, as well as EPA's comments concerning the EISs. You may search for EPA comments on EISs, along with EISs themselves, at https://cdxapps.epa.gov/cdx-enepa-II/public/action/eis/search.

Public Comments

You may submit your written comments and materials by one of the methods presented in ADDRESSES.

No opportunity will be provided for verbal comments during the virtual public meetings described under DATES.

Reasonable Accommodations

Persons needing reasonable accommodations to participate in the virtual public meetings should contact the Service as soon as possible, using one of the methods listed under FOR FURTHER INFORMATION CONTACT. To allow sufficient time to process requests, please make contact no later than one week before the scheduled public meetings.

Information regarding this proposed action is available in alternative formats upon request.

Public Availability of Comments

You may submit your comments by one of the methods listed in ADDRESSES. Before including your address, phone number, email address, or other personal identifying information in your comment, you should be aware that your entire comment—including your personal identifying information—may be made publicly available at any time. While you can ask us in your comment to withhold your personal identifying information from public review, we cannot guarantee that we will be able to do so.

Next Steps and Decision To Be Made

After public comment, we will evaluate any comments received and prepare written responses, which will be included with the final EIS. The Service expects to announce the availability of the final EIS in the Federal Register in early 2023. After consideration of the analysis and information provided in the final EIS, as well as the comments received throughout the review process, the Regional Director will select the alternative that best achieves the purpose and need for the intended action. The decision, which will be documented in the record of decision, will also consider the consistency of the action with agency policies, regulations, and applicable laws, and the contribution it will make towards achieving the purposes for which the TSNWR was established. At least 30 days after the final EIS is available, we expect the record of decision will be completed, in accordance with applicable timeframes established in 40 CFR 1506.11.

Authority

We provide this notice in accordance with the requirements of NEPA and its implementing regulations (40 CFR 1503.1 and 1506.6).

Jill Russi,
Acting Regional Director, Pacific Southwest Region, U.S. Fish and Wildlife Service.

[FR Doc. 2022-17235 Filed 8-18-22; 8:45 am]

BILLING CODE 4333-15-P